DEPARTMENT OF DEFENSE

Defense Acquisition Regulations System

48 CFR Parts 227 and 252

[Docket DARS-2023-0045]

RIN 0750-AK82

Defense Federal Acquisition Regulation Supplement: Rights in Technical Data (DFARS Case 2019-D044); Extension of Comment Period

AGENCY: Defense Acquisition Regulations System, Department of Defense (DoD).

ACTION: Advance notice of proposed rulemaking; extension of comment period.

SUMMARY: DoD published an advance notice of proposed rulemaking on November 17, 2023, seeking public input on a proposed revision to the Defense Federal Acquisition Regulation Supplement (DFARS) to implement sections of the National Defense Authorization Acts for Fiscal Years 2012 and 2017, which address deferred ordering of technical data, including in cases when the Government does not challenge a restrictive marking or asserted restriction in technical data. The deadline for submitting comments is being extended to provide additional time for interested parties to provide comments.

DATES: The comment period for the advance notice of proposed rulemaking published November 17, 2023, at 88 FR 80260, is extended. Comments on the advance notice of proposed rulemaking should be submitted in writing to the address shown in ADDRESSES on or before February 15, 2024, to be considered in the formation of a proposed rule.

ADDRESSES: Submit comments identified by DFARS Case 2019-D044, using either of the following methods:

○ Federal eRulemaking Portal: https://www.regulations.gov. Search for “DFARS Case 2019-D044.” Select “Comment” and follow the instructions provided to submit a comment. Please include “DFARS Case 2019-D044” on any attached documents.

○ Email: osd.dfars@mail.mil. Include DFARS Case 2019-D044 in the subject line of the message.

Comments received generally will be posted without change to https://www.regulations.gov, including any personal information provided. To confirm receipt of your comment(s), please check https://www.regulations.gov, approximately two to three days after submission to verify posting.

FOR FURTHER INFORMATION CONTACT: Mr. David Johnson, telephone 202-913-5764.

SUPPLEMENTARY INFORMATION: On November 17, 2023, DoD published an advance notice of proposed rulemaking (ANPR) in the Federal Register at 88 FR 80260 seeking public input on potential DFARS changes to implement sections of the National Defense Authorization Acts for Fiscal Years 2012 and 2017. These sections address deferred ordering of technical data, including in cases when the Government does not challenge a restrictive marking or asserted restriction in technical data. DoD held a public meeting on December 15, 2023, regarding this ANPR. DoD does not plan to hold a second public meeting on this ANPR.

The comment period for the ANPR is extended through February 15, 2024, to provide additional time for interested parties to comment on the potential DFARS changes.

List of Subjects in 48 CFR Parts 227 and 252

Government procurement.

Jennifer D. Johnson,
Editor/Publisher, Defense Acquisition Regulations System.

[FR Doc. 2023-28414 Filed 12-26-23; 8:45 am]

BILLING CODE 6001-FR-P